DEPARTMENT OF HOMELAND SECURITY

[Docket No. DHS-2011-0002]

Homeland Security Advisory Council

AGENCY: The Office of Policy, DHS.

ACTION: Notice of partially closed Federal Advisory Committee Meeting.

SUMMARY: The Homeland Security Advisory Council (HSAC) will meet on February 8, 2011 in Washington, DC. The meeting will be partially closed to the public.

DATES: The HSAC will meet on Tuesday, February 8, 2011 from 9:20 a.m. to 3 p.m. EST. The open portion of the meeting will be from approximately 9:20 a.m. to 11:45 a.m.

ADDRESSES: The meeting will be held in the Capital Ballroom at the Embassy Suites—Convention Center, 900 10th Street, NW., Washington, DC 20001.

Written comments must be submitted and received by February 2, 2011. Comments must be identified by Docket No. DHS 2011-0002 and may be submitted by one of the following methods:

• Federal eRulemaking Portal: http://www.regulations.gov. Follow the instructions for submitting comments.

• E-mail: HSAC@dhs.gov. Include docket number in the subject line of the message.

• Fax: (202) 282-9207

• Mail: Homeland Security Advisory Council, Department of Homeland Security, Mailstop 0450, 245 Murray Lane, SW., Washington, DC 20528.

Instructions: All submissions received must include the words “Department of Homeland Security” and DHS-2011-0002, the docket number for this action. Comments received will be posted without alteration at http://www.regulations.gov, including any personal information provided.

Docket: For access to the docket to read background documents or comments received by the DHS Homeland Security Advisory Council, go to http://www.regulations.gov.

FOR FURTHER INFORMATION CONTACT: HSAC Staff at hsac@dhs.gov or 202-447-3135.

SUPPLEMENTARY INFORMATION: Notice of this meeting is given under the Federal Advisory Committee Act, 5 U.S.C. App. The HSAC provides independent, objective advice and recommendations for the consideration of the Secretary of the Department of Homeland Security on matters related to homeland security. The Council is comprised of leaders of local law enforcement, first responders, State and local government, the private sector, and academia.

The HSAC will meet for the purpose of receiving information and swearing in new members.

The open portions of the meeting will include opening remarks from the HSAC leadership, a ceremonial swearing in of new members, “If You See Something, Say Something™” public awareness campaign, and Suspicious Activity Reporting” Programs, a View From the Hill, DHS Community Resilience Efforts, and closing remarks.

The closed portions of the meeting will address threats to our homeland security, results of a cyber security exercise, sharing information with others, and Southwest Border operations.

Basis for Closure: In accordance with Section 10(d) of the Federal Advisory Committee Act, it has been determined that certain portions of the meeting require closure as the premature disclosure of the information would not be in the public interest. There will be briefings from DHS Intelligence and Analysis and a high level DHS official regarding domestic and international threats to our homeland security; a presentation on the timely sharing of specific incident threat and law enforcement information with State, local, Tribal and private partners within the Homeland Security Advisory System; and a briefing from Customs and Border Protection on threats at the Southwest Border and joint operations with Mexican law enforcement personnel to address violence and illegal border crossings. Under 5 U.S.C. 552b(c)(7)(E)&(F), disclosure of this information could reveal investigative techniques and procedures not generally available to the public allowing those with interests against the United States to circumvent the law, thereby endangering the life or physical safety of law enforcement personnel. Additionally, under 5 U.S.C. 552b(c)(9)(B), disclosure of these techniques and procedures could frustrate the successful implementation of protective measures designed to keep our country safe.

A briefing on the Cyber Storm III Exercise will include lessons learned and vulnerabilities of cyber assets, as well as potential methods to improve a Federal response to a cyber attack. Under 5 U.S.C. 552b(c)(9)(B), disclosure of this information would be a road map to those who wish to attack our cyber security, and hence, would certainly frustrate the successful implementation of preventive and Counter measures to protect our cybersecurity.

Accordingly, this meeting will be partially closed to the public.

Becca Sharp,
Executive Director, Homeland Security Advisory Council, DHS.

[FR Doc. 2011-1345 Filed 1-21-11; 8:45 am]

BILLING CODE 9110-9M-P